DEPARTMENT OF TRANSPORTATION

Surface Transportation Board

[Docket No. EP 670 (Sub-No. 1)]

Notice of Rail Energy Transportation Advisory Committee Meeting

AGENCY: Surface Transportation Board, Department of Transportation.

ACTION: Notice of Rail Energy Transportation Advisory Committee meeting.

SUMMARY: Notice is hereby given of a meeting of the Rail Energy Transportation Advisory Committee (RETAC), pursuant to Section 10(a)(2) of the Federal Advisory Committee Act, Public Law 92-463, as amended (5 U.S.C., App. 2).

DATES: The meeting will be held on Wednesday, April 6, 2011, at 9 a.m., E.D.T.

ADDRESSES: The meeting will be held in the Hearing Room on the first floor of the Surface Transportation Board's headquarters at Patriot's Plaza, 395 E Street, SW., Washington, DC 20423-0001.

FOR FURTHER INFORMATION CONTACT: Scott M. Zimmerman (202) 245-0386. Assistance for the hearing impaired is available through the Federal Information Relay Service (FIRS) at: (800) 877-8339.

SUPPLEMENTARY INFORMATION: RETAC arose from a proceeding instituted by the Board, in Establishment of a Rail Energy Transportation Advisory Committee, EP 670. RETAC was formed to provide advice and guidance to the Board, and to serve as a forum for discussion of emerging issues regarding the transportation by rail of energy resources, particularly, but not necessarily limited to, coal, ethanol, and other biofuels. The purpose of this meeting is to continue discussions regarding issues such as rail performance, capacity constraints, infrastructure planning and development, and effective coordination among suppliers, carriers, and users of energy resources. Potential agenda items include updates from the RETAC subcommittees, a briefing by the Energy Information Administration on its Annual Energy Outlook 2011, a Congressional legislative update and discussion, and a discussion of industry perspectives on the Environmental Protection Agency's proposed Transport Rule.

The meeting, which is open to the public, will be conducted pursuant to RETAC's charter and Board procedures. Further communications about this meeting may be announced through the Board's Web site at “www.stb.dot.gov.”

This action will not significantly affect either the quality of the human environment or the conservation of energy resources.

Authority: 49 U.S.C. 721, 49 U.S.C. 11101; 49 U.S.C. 11121.

Decided: March 16, 2011.
By the Board, Rachel D. Campbell, Director, Office of Proceedings.
Jeffrey Herzig,
Clearance Clerk.

[FR Doc. 2011-6522 Filed 3-21-11; 8:45 am]

BILLING CODE 4915-01-P